NATIONAL AERONAUTICS AND SPACE ADMINISTRATION

[Notice (10-108)]

Government-Owned Inventions, Available for Licensing

AGENCY: National Aeronautics and Space Administration.

ACTION: Notice of Availability of Inventions for Licensing.

SUMMARY: The inventions listed below assigned to the National Aeronautics and Space Administration, have been filed in the United States Patent and Trademark office, and are available for licensing.

DATES: September 8, 2010.

FOR FURTHER INFORMATION CONTACT: Edward K. Fein, Patent Counsel, Johnson Space Center, Mail Code AL, 2101 NASA Parkway, Houston, TX 77058, (281) 483-4871; (281) 483-6936 [Facsimile].

NASA Case No. MSC-24238-1: Microwave Tissue Welding for Wound Closure.

Dated: September 1, 2010.
Richard W. Sherman,
Deputy General Counsel.

[FR Doc. 2010-22389 Filed 9-7-10; 8:45 am]

BILLING CODE P